DEPARTMENT OF HOUSING AND URBAN DEVELOPMENT

[Docket No. FR-5828-N-22]

Federal Property Suitable as Facilities to Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 5B-17, Parklawn Building, 5600 Fishers Lane, Rockville, MD 20857, (301)-443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: GSA: Mr. Flavio Peres, General Services Administration, Office of Real Property Utilization and Disposal, 1800 F Street NW., Room 7040 Washington, DC 20405, (202) 501-0084; (This is not a toll-free number).

Dated: May 21, 2015.
Brian P. Fitzmaurice,
Director, Division of Community Assistance, Office of Special Needs Assistance Programs.

05/19/2015

TITLE V, FEDERAL SURPLUS PROPERTY PROGRAM FEDERAL REGISTER REPORT FOR 05/29/2015

Suitable/Available Properties

Building

Connecticut

Shepard of the Sea Chapel & Community Center

231 Gungywamp Rd.

Groton CT 06340

Landholding Agency: GSA

Property Number: 54201510010

Status: Surplus

GSA Number: CT-0933

Directions: Disposal Agency: GSA; Landholding Agency: Navy

Comments: 49+ yrs.-old; 28,777 sq. ft.; vacant 48+ mons.; wood & concrete; severe water damage; mold; sits on 13.5 acres; contact GSA for more information

South Dakota

Lemmon Vehicle Storage Building

207 10th Street W.

Lemmon SD 57638

Landholding Agency: GSA

Property Number: 54201510009

Status: Surplus

GSA Number: 7-D-SD-0633-AA

Directions: Disposal Agency: GSA; Landholding Agency: COE

Comments: 2,000 sq. ft.; vehicle storage barn; sits on 0.77 acres; contact GSA for more information

Land

Illinois

FAA Outer Marker

5549 Elizabeth Place

Rolling Meadows IL

Landholding Agency: GSA

Property Number: 54201430004

Status: Excess

GSA Number: I-U-IL-807

Directions: Landholding Agency; FAA; Disposal Agency; GSA

Comments: 9,640 sq. ft.; 12+ months vacant; outer marker to assist planes landing at O'Hare Airport; contact GSA for more information.

Wisconsin

TACAN Annex

6400 Block of Lake Rd.

Windsor WI 53598

Landholding Agency: GSA

Property Number: 54201320005

Status: Excess

GSA Number: 1-D-WI-611

Comments: 1 acre; moderate conditions

Suitable/Unavailable Properties

Building

Alaska

FAA Housing

111 Henrichs Loop Road

Cordova AK 99754

Landholding Agency: GSA

Property Number: 54201440002

Status: Excess

GSA Number: 9-U-AK-0854

Directions: Disposal Agency; GSA; Land Holding Agency; Transportation.

Comments: 25+ yrs. old; 2,688 sq. ft.; 3 months vacant; residential good condition; may be difficult to move; contact GSA for more information.

Arizona

13 Buildings

Wellton Property

Wellton AZ 85356

Landholding Agency: GSA

Property Number: 54201420005

Status: Excess

GSA Number: 9-X-AZ-0865-AA

Directions: Landholding Agency: DHS; Disposal Agency: GSA; AZ0084; AZ0085; AZ0086; AZ0087; AZ0088; AZ0089; AZ0406; AZ0407; AZ0408; AZ3960; AZ0221; AZ0222; AZ0223

Comments: 95,521.44 total sq. ft. for all properties; built in 2004 & 2007; contact GSA for more information on a specific property

San Carlos Irrigation Project

BIA Old Main Office Bldg.

255 W. Roosevelt

Coolidge AZ 85128

Landholding Agency: GSA

Property Number: 54201440008

Status: Surplus

GSA Number: 9-I-AZ-1706-AA

Directions: Disposal Agency; GSA; Landholding Agency: Bureau of Indian Affairs.

Comments: 83+ yrs. old; 6,745 sq. ft. ; 36mos. vacant; residential and commercial; brick structure; fair condition; asbestos & lead based paint; contact GSA for more information.

Colorado

6 Bldgs. Grand Junction Complex

500 South 10th Street

Grand Junction CO 81501

Landholding Agency: GSA

Property Number: 54201510002

Status: Excess

GSA Number: 7-I-CO-0698-AA

Directions: Disposal Agency; GSA; Landholding Agency; Bureau of Reclamation.

Comments: 50+ yrs. old; Brick/Metal structure; 11,244 sq. ft., total 6 bldgs.; sits on 1.2 acres; office/storage/warehouse; repairs needed totaling $10,000; contact GSA for more info.

Idaho

Ditchrider House

3970 1st Lane East

Parma ID 83660

Landholding Agency: GSA

Property Number: 54201420011

Status: Excess

GSA Number: 9-I-ID-0585

Directions: Landholding Agency: Dept. of Homeland Security; Disposal Agency: GSA

Comments: 1,194 sq. ft.; residence; 48+ months vacant; extensive repairs needed; contact GSA for more info.

BOR Upper Snake River

Field Office

1359 Hansen Ave.

Burley ID 83318

Landholding Agency: GSA

Property Number: 54201420012

Status: Excess

GSA Number: 9-I-ID-0586

Directions: Landholding Agency: Interior; Disposal Agency: GSA

Comments: 9,828 sq. ft.; office; 48+ months vacant; good to moderate conditions; contact GSA for more info.

Illinois

Peoria Radio Repeater Site

Between Spring Creek and Caterpillar Lane

Peoria IL

Landholding Agency: GSA

Property Number: 54201420008

Status: Excess

GSA Number: I-D-IL-806

Directions: Landholding Agency; COE; Disposal agency GSA

Comments: 8x12 equipment storage shed; fair conditions contact GSA for more information.

Iowa

Pisgah Microwave Repeater Site

1585 Juneau Avenue

Mondamin IA 51564

Landholding Agency: GSA

Property Number: 54201510001

Status: Excess

GSA Number: 7-D-IA-0514-AA

Directions: Disposal Agency; GSA; Landholding Agency; COE

Comments: 26+ yrs. old; metal structure; 128 sq. ft., storage; property has radio antenna; sit on 2.58 acres of land; for further info. contact GSA.

Kansas

Former SS Admin. Building

801 S. Broadway

Pittsburg KS 66762

Landholding Agency: GSA

Property Number: 54201420007

Status: Surplus

GSA Number: 7-G-KS-0529

Comments: 5,918 sq. ft.; sits on .52 acres; Admin. bldg.; 42+ yrs.-old; fair conditions; asbestos; lead-based paint; mold possible; contact GSA for more information

Maryland

Appraisers Store

Baltimore MD 21202

Landholding Agency: GSA

Property Number: 54201030016

Status: Excess

GSA Number: 4-G-MD-0623

Comments: Redetermination: 169,801 sq. ft., most recent use—federal offices, listed in the Nat'l Register of Historic Places, use restrictions

Metro West

300 N. Green St.

Baltimore MD 21201

Landholding Agency: GSA

Property Number: 54201440004

Status: Excess

GSA Number: 4-G-MD-0624AA

Directions: 2 Federal office buildings totaling 1,085,741 sq. ft.

Comments: bldgs. located on 11 acres; 7 months vacant; good to fair conditions; includes garage w/410 spaces; coordinate access w/landholding agency's facilities management; contact GSA for more information

Michigan

Nat'l Weather Svc Ofc.

214 West 14th Ave.

Sault Ste. Marie MI

Landholding Agency: GSA

Property Number: 54200120010

Status: Excess

GSA Number: 1-C-MI-802

Comments: 2230 sq. ft., presence of asbestos, most recent use—office

Sleeping Bear Dunes National

Lakeshore-Carmichael House

6234 S. Dune Highway

Empire MI 49630

Landholding Agency: GSA

Property Number: 54201430013

Status: Excess

GSA Number: 1-I-MI-0702-AB

Comments: Off-site removal only; 2,253 sq. ft.; 100+yrs.-old; average condition; wood structure type; lead-based paint; contact GSA for more information.

Missouri

Former NMCB15 Richards-Gedaur

RPSUID 212

600 Seabee Drive

Belton MO 64068

Landholding Agency: GSA

Property Number: 54201510004

Status: Surplus

GSA Number: 7-D-MO-0705

Directions: Disposal Agency: GSA; Landholding Agency: Navy

Comments: 10 bldgs. ranging from 960 to 4,980 sq. ft.; 12+ months vacant; some recent use includes: admin./classroom/warehouse; 14.67 acres; asbestos/lead/mold may be present; contact GSA for more information

Montana

Huntley Townsite Tract 127

Near Hwy 522

Huntley MT 59037

Landholding Agency: GSA

Property Number: 54201410006

Status: Surplus

GSA Number: 7-I-MT-0633-AB

Directions: disposal Agency: GSA; Landholding Agency: Interior

Comments: sits on 2.37 acres; contact GSA for more information

Nevada

Alan Bible Federal Bldg.

600 S. Las Vegas Blvd.

Las Vegas NV 89101

Landholding Agency: GSA

Property Number: 54201210009

Status: Excess

GSA Number: 9-G-NV-565

Comments: 81,247 sf.; current use: federal bldg.; extensive structural issues; needs major repairs; contact GSA for further details

2 Buildings

Military Circle

Tonopah NV

Landholding Agency: GSA

Property Number: 54201240012

Status: Excess

GSA Number: 9-I-NV-514-AK

Directions: bldg. 102: 2,508 sf.; bldg. 103: 2,880 sf.

Comments: total sf. for both bldgs. 5,388; Admin.; vacant since 1998; sits on 0.747 acres; fair conditions; lead/asbestos present

New Jersey

Former SSA Trust Fund Bldg.

396 Bloomfield Ave.

Montclair NJ 07042

Landholding Agency: GSA

Property Number: 54201310004

Status: Surplus

GSA Number: 1-G-NJ-0676

Comments: 7,183 sf.; office; vacant since March 2012

Portion of former Sievers—

Sandberg US Army Reserves Center (Camp Pedric

Artillery Ave at Garrison St.

Oldmans NJ 08067

Landholding Agency: GSA

Property Number: 54201320003

Status: Surplus

GSA Number: 1-D-NJ-0662-AB

Directions: On the north side of Rte. 130, between Perkintown Road (Rte. 644) and Pennsgove-Pedricktown Rd (Rte. 642)

Comments: #171; mess hall bldg. #173; 14,282 total sf.; fair/poor conditions; asbestos/lead-based paint; potential legal constraints in accessing property; Contact GSA for more info.

Portion of Former Sievers—

Sandberg US Army Reserves Center—Tract 1

NW Side of Artillery Ave. at Rte. 130

Oldmans NJ 08067

Landholding Agency: GSA

Property Number: 54201320015

Status: Excess

GSA Number: 1-D-NJ-0662-AA

Directions: Previously reported under 54200740005 as suitable/available; 16 bldgs. usage varies: barracks/med./warehouses/garages; property is being parcelized.

Comments: 87,011 sf.; 10+ yrs. vacant fair/poor conditions; property may be landlocked; transferee may need to request access from Oldmans Township planning & zoning comm.; contact GSA for more info.

New York

Portion of GSA Binghamton

“Hillcrest” Depot—Tract 1

1151 Hoyt Ave.

Fenton NY 13901

Landholding Agency: GSA

Property Number: 54201320017

Status: Surplus

GSA Number: 1-G-NY0760-AC

Directions: Previously reported on March 24, 2006 under 54200610016; this property includes 40 acres of land w/6 structures; property is being parcelized

Comments: warehouses range from approx. 16,347 sf.-172,830 sf.; admin. bldg. approx. 5,700 sf; guard house & butler bldg. sf. is unknown; 10 vacant; fair conditions; bldgs. locked; entry by appt. w/GSA

Former TSG Harold Lockwood US

Army Reserves Center

111 Finney Boulevard

Malone NY 12953

Landholding Agency: GSA

Property Number: 54201340007

Status: Excess

GSA Number: 1-D-NY-0966-AA

Comments: 29960 Sq. Ft.: office/administrative/garage; sits on 4.82+/-acres; age 1961-1983; entry by appointment with USAR/GSA; asbestos and lead based paint; contact GSA for more information.

A Scotia Depot

One Amsterdam Road

Scotia NY 12302

Landholding Agency: GSA

Property Number: 54201420003

Status: Surplus

GSA Number: 54201420003

Directions: Previously reported in 2006 but has been subdivided into smaller parcel.

Comments: 325,000 sq. ft.; storage; 120+ months vacant; poor conditions; holes in roof; contamination; access easement, contact GSA for more information.

Ohio

N. Appalachian Experimental

Watershed Research Ctr.

28850 State Rte. 621

Coshocton OH 43824

Landholding Agency: GSA

Property Number: 54201420006

Status: Excess

GSA Number: 1-A-OH-849

Directions: Landholding Agency: Agriculture; Disposal Agency: GSA

Comments: 70,539 total sq. ft. for two bldgs.; storage/office; fair to poor conditions; lead-based paint; asbestos; PCBs; mold; remediation required; contact GSA for more information

Glenn Research Center-

Plumbrook Station: Big Island Plumbing

Station; 6100 Columbus Ave.

Sandusky OH 44870

Landholding Agency: GSA

Property Number: 54201440014

Status: Excess

GSA Number: 1-Z-OH-0598-3-AC

Directions: Landholding Agency: NASA; Disposal Agency: GSA

Comments: off-site removal only; 3,756 sq. ft.; 24+ months vacant; may be difficult to relocate due to size/type; contact GSA for more information

Oklahoma

Claremore Federal Office Building

118 South Missouri Avenue

Claremore OK 74017

Landholding Agency: GSA

Property Number: 54201440001

Status: Surplus

GSA Number: 7-I-OK-0568-AB

Directions: Disposal Agency; GSA; Landholding Agency; Bureau of Indian Affairs.

Comments: 79+ yrs. old; 8,798 sq. ft.; vacant 114 months; office; brick; may be difficult to remove; ok condition; secure area; contact GSA for more information.

Oregon

3 Bldgs./Land

OTHR-B Radar

Cty Rd 514

Christmas Valley OR 97641

Landholding Agency: GSA

Property Number: 54200840003

Status: Excess

GSA Number: 9-D-OR-0768

Comments: 14000 sq. ft. each/2626 acres, most recent use—radar site, right-of-way

South Carolina

Former US Vegetable Lab

2875 Savannah Hwy

Charleston SC 29414

Landholding Agency: GSA

Property Number: 54201310001

Status: Excess

GSA Number: 4-A-SC-0609AA

Directions: head house w/3 greenhouses, storage bins

Comments: 6,400 sf.; lab; 11 yrs. vacant; w/in 100 yr. floodplain/floodway; however is contained; asbestos & lead based paint

Texas

2 Buildings; Natural Resource

Conservation Service Waco Facility

200 South Price Street

Waco TX 76501

Landholding Agency: GSA

Property Number: 54201430007

Status: Surplus

GSA Number: 7-A-TX-0556

Directions: Landholding agency; Agriculture; Disposal Agency; GSA.

Comments: 18,460 sq. ft.; storage; 60+ months vacant; very poor condition; within a security fence; contact GSA for more information.

FT Hancock Border Patrol Station

235 Knox Avenue

Ft. Hancock TX 79839

Landholding Agency: GSA

Property Number: 54201430010

Status: Surplus

GSA Number: 7-X-TX-1157-AA

Directions: Disposal Agency; GSA; Land holding Agency; US Customs and Border Protection

Comments: 3,022 sq. ft.; office, storage, detention; 49+ years old; fair to moderate condition; contact GSA for more information.

Virginia

Building 641

216 Hunting Ave.

Hampton VA 23681

Landholding Agency: GSA

Property Number: 54201320006

Status: Excess

GSA Number: 4-Z-VA-0602-A1

Comments: 11,671 total sf.; office; fair/moderate conditions; existing Federal need

Johnson House and Shed

12503 Cavalry Court

Spotsylvania VA 22553

Landholding Agency: GSA

Property Number: 54201430005

Status: Excess

GSA Number: 4-I-VA-1145AA

Directions: Landholding Agency; Interior; Disposal Agency; GSA

Comments: Off-site removal only; 1,357 +/− sq. ft.; repairs needed; contact GSA for more information.

Washington

712 Records Center Printing & Repro Plant 712B IRM

940 Northgate Dr.

Richland WA 99352

Landholding Agency: GSA

Property Number: 54201320025

Status: Excess

GSA Number: 9-B-WA-1268

Directions: Property is improved w/2 contiguous bldgs., totaling approx. 22,714 sf.; Disposal: GSA, Landholding: Energy

Comments: 22,714 sf.; storage; moderate conditions; 60+ months vacant; asbestos & lead

Old Oroville Border Patrol Station

1105 Main St.

Oroville WA 98844

Landholding Agency: GSA

Property Number: 54201420010

Status: Excess

GSA Number: 9-Z-WA-1272-AB

Directions: Landholding Agency: Dept. of Homeland Security; Disposal Agency: GSA

Comments: 5,500 sq. ft.; office; 18+ months vacant; good to moderate conditions; contact GSA for more info.

Old Lynden Border Patrol Station;

8334 Guide Meridian Rd.

Lynden WA 98264

Landholding Agency: GSA

Property Number: 54201510003

Status: Excess

GSA Number: 9-Z-WA-1276

Directions: Disposal Agency: GSA; Landholding Agency: Dept. of Homeland Security

Comments: 50+ yrs.-old; 2,763 sq. ft.; vacant 18+ months; contact GSA for more information

West Virginia

Naval Information Operations Center

133 Hedrick Drive

Sugar Grove WV 26815

Landholding Agency: GSA

Property Number: 54201430015

Status: Excess

GSA Number: 4-N-WV-0560

Directions: Land holding agency—Navy; Disposal Agency GSA

Comments: 118 Buildings; 445,134 sq. ft.; Navy base; until 09/15 military checkpoint; wetlands; contact GSA for more info.

Wisconsin

St. Croix National Scenic

Riverway Residential Structures

401 N. Hamilton St.

St. Croix Falls WI 54204

Landholding Agency: GSA

Property Number: 54201430001

Status: Excess

GSA Number: 1-I-WI-541B

Directions: Landholding Agency: Interior; Disposal Agency: GSA

Comments: House#1: 1,048 sq. ft.; House #2: 2,376 sq. ft.; House #3: 2,936 sq. ft.; good to fair conditions; LBP; contact GSA for more information

California

Seal Beach RR Right of Way

Seal Beach

Seal Beach CA 90740

Landholding Agency: GSA

Property Number: 54201210006

Status: Excess

GSA Number: 9-N-CA-1508-AH

Comments: 4,721.90 sf.; current use: vacant lot between residential bldg.

Seal Beach RR Right of Way

Seal Beach

Seal Beach CA 90740

Landholding Agency: GSA

Property Number: 54201210007

Status: Excess

GSA Number: 9-N-CA-1508-AJ

Comments: 6,028.70 sf.; current use: vacant lot between residential bldgs.

Delano Transmitting Station

1105 Melcher Rd.

Delano CA 93215

Landholding Agency: GSA

Property Number: 54201330005

Status: Excess

GSA Number: 9-X-CA-1671

Directions: Landholding Agency: Broadcasting Board of Governors Disposal Agency: GSA

Comments: 800 acres; mostly land and some bldgs.; unavailable due to Federal interest; transmitting station; vacant since 2007; access can be gain by appt. only; contact GSA for more info.

Massachusetts

FAA Site

Massasoit Bridge Rd.

Nantucket MA 02554

Landholding Agency: GSA

Property Number: 54200830026

Status: Surplus

GSA Number: MA-0895

Comments: approx. 92 acres, entire parcel within MA Division of Fisheries & Wildlife Natural Heritage & Endangered Species Program

Nevada

Ditchrider Sorensen Road

2105 Sorensen Road

Fallon NV 89406

Landholding Agency: GSA

Property Number: 54201440006

Status: Surplus

GSA Number: 9-I-NV-0572-AB

Directions: Disposal Agency; GSA; Landholding Agency; Interior.

Comments: 2.73 acres; formerly used us contractor/employee housing structure removal from the land 02/2011. Contact GSA for more information.

Ditchrider South East Street

207 South East St.

Fallon NV 89406

Landholding Agency: GSA

Property Number: 54201440007

Status: Surplus

GSA Number: 9-I-NV-0572-AA

Directions: Disposal Agency; GSA; Land Holding Agency; Interior.

Comments: 0.32 acres; formerly used us contractor/employee housing structure demolished on land 02/2011. Contact GSA for more information.

Ohio

Glenn Research Center-

Plumbrook Station: Parcel #63

6100 Columbus Ave.

Sandusky OH 44870

Landholding Agency: GSA

Property Number: 54201440012

Status: Excess

GSA Number: 1-Z-OH-0598-5-AE

Directions: Landholding Agency: NASA; Disposal Agency: GSA

Comments: 11.5 acres; contamination; various illegally dumped solid waste items (e.g., lead acid batteries, oil filters & containers, & gas cylinders); contact GSA for more information

South Carolina

Marine Corps Reserve Training Center

2517 Vector Ave.

Goose Creek SC 29406

Landholding Agency: GSA

Property Number: 54201410009

Status: Excess

GSA Number: 4-N-SC-0630-AA

Directions: Landholding Agency: Navy; Disposal Agency: GSA

Comments: 5.59 acres; contact GSA for more information

Former FAA Outer Marker

Facility—Greer

Brookfield Parkway

Greer SC 29651

Landholding Agency: GSA

Property Number: 54201410011

Status: Excess

GSA Number: 1-U-SC-0631

Comments: 0.99 acres; contact GSA for more information.

Washington

FAS Fleet Motor Pool Parcel C

920 Northgate Drive

Richland WA 99352

Landholding Agency: GSA

Property Number: 54201510007

Status: Excess

GSA Number: 9-Z-WA-1277

Comments: 0.52 acre; asphalt paved; parking lot; contact GSA for more information.

[FR Doc. 2015-12748 Filed 5-28-15; 8:45 am]

BILLING CODE 4210-67-P